INTERNATIONAL TRADE COMMISSION

[Investigation Nos. 701-TA-526-527 and 731-TA-1262-1263 (Final)]

Melamine From China and Trinidad and Tobago

Determinations

On the basis of the record ¹ developed in the subject investigations, the United States International Trade Commission (“Commission”) determines, pursuant to the Tariff Act of 1930 (“the Act”), that an industry in the United States is materially injured by reason of imports of melamine from China provided for in subheading 2933.61.00 of the Harmonized Tariff Schedule of the United States, that have been found by the Department of Commerce to be sold in the United States at less than fair value (“LTFV”), and that have been found by Commerce to be subsidized by the government of China.² The Commission further determines, pursuant to the Act, that an industry in the United States is not materially injured or threatened with material injury by reason of imports of melamine from Trinidad and Tobago, provided for in subheading 2933.61.00 of the Harmonized Tariff Schedule of the United States, that have been found by Commerce to be sold in the United States at LTFV, and to be subsidized by the government of Trinidad and Tobago.³

¹ The record is defined in sec. 207.2(f) of the Commission's Rules of Practice and Procedure (19 CFR 207.2(f)).

² All six Commissioners voted in the affirmative.

³ All six Commissioners voted in the negative.

Background

The Commission, pursuant to sections 705(b) and 735(b) of the Tariff Act of 1930 (19 U.S.C. 1671d(b) and 19 U.S.C. 1673d(b)), instituted these investigations effective November 12, 2014, following receipt of a petition filed with the Commission and Commerce by Cornerstone Chemical Company, Waggaman, Louisiana. The final phase of the investigations was scheduled by the Commission following notification of preliminary determinations by Commerce that imports of melamine from China and Trinidad and Tobago were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on July 24, 2015 (80 FR 44150). The hearing was held in Washington, DC, on November 3, 2015, and all persons who requested the opportunity were permitted to appear in person or by counsel.

The Commission made these determinations pursuant to sections 705(b) and 735(b) of the Tariff Act of 1930 (19 U.S.C. 1671d(b) and 19 U.S.C. 1673d(b)). It completed and filed its determinations in these investigations on December 18, 2015. The views of the Commission are contained in USITC Publication 4585 (December 2015), entitled Melamine from China and Trinidad and Tobago: Investigation Nos. 701-TA-526-527 and 731-TA-1262-1263 (Final).

By order of the Commission.
Issued: December 18, 2015.
William R. Bishop,
Supervisory Hearings and Information Officer.

[FR Doc. 2015-32397 Filed 12-23-15; 8:45 am]

BILLING CODE 7020-02-P